Proclamation 10268 of September 30, 2021

National Breast Cancer Awareness Month, 2021

By the President of the United States of America

A Proclamation

During National Breast Cancer Awareness Month, we stand with the courageous women and men who have been diagnosed with breast cancer and honor those who have lost their battle to this terrible disease. As the second most common cancer affecting women, an estimated 1 in 8 women will develop breast cancer over the course of their lifetime and 281,550 women will be diagnosed with breast cancer in the United States in 2021. Cancer touches so many families across the country—including ours. It is up to all of us to continue fighting for a cure and to ensure that every American has access to the quality care they need.

This year marks the 30th anniversary of the National Breast and Cervical Cancer Early Detection Program, which provides free breast and cervical cancer screenings to low-income, uninsured, and underinsured women in every State, as well as many Tribal organizations and Territories. To find information on how to get screened through this program, visit: cdc.gov/cancer/nbccedp/screenings.htm. Early detection is one of the most important strategies for treating breast cancer successfully, and regular screenings are the most reliable way to detect it early. The COVID-19 pandemic has disrupted many parts of our lives, and has produced new deficits in breast cancer early detection, so there is renewed urgency to getting these recommended screenings scheduled, before a cancer has spread and becomes less treatable. I encourage everyone to maintain their scheduled screenings, doctor appointments, and treatments without delay while observing coronavirus safety measures.

For decades, the medical community and advocates have helped our Nation make great progress in the fight against cancer. First Lady Jill Biden is proud to be a part of that movement, having founded the Biden Breast Health Initiative, which educated high school girls in Delaware about breast health and helped them spread the word to their own families. Still, our Nation has a long way to go before this disease no longer threatens American lives. I am committed to doing everything I can to bring together our cancer research community and give them the resources they need to make progress in the prevention, detection, and treatment of breast cancer. That is why I have called for the creation of an Advanced Research Projects Agency for Health at the National Institutes of Health (ARPA-H) which would invest $6.5 billion to develop breakthroughs that prevent, detect, and treat cancer and other deadly diseases. My American Rescue Plan also expands access to affordable health insurance coverage, ensuring that more women are able to receive these screenings and treatments without worrying about cost.

The Affordable Care Act (ACA) has expanded coverage to millions of women who were previously uninsured and has given millions of women access to preventive services, including screening tests such as mammograms with no out-of-pocket costs. Additionally, insurance companies can no longer discriminate against women with pre-existing conditions, such as breast cancer. My Administration is committed to protecting and building on the ACA to ensure that more people have access to quality, affordable health care and to lifting the inequitable health burden that falls on Black women.

As we observe National Breast Cancer Awareness Month, we are united in our commitment to ending breast cancer and improving the lives of all those affected by this illness. We applaud the advocates, medical professionals, researchers, and caregivers who dedicate their lives to making progress toward cures. This month, we stand in solidarity with breast cancer survivors across the country and reaffirm our commitment to advancing research efforts that deliver hope to patients everywhere.

More information on breast cancer is available at cancer.gov/breast. Information specialists at the National Cancer Institute are also available to help answer cancer-related questions in English and Spanish at 1-800-422-6237.

NOW, THEREFORE, I, JOSEPH R. BIDEN JR., President of the United States of America, by virtue of the authority vested in me by the Constitution and the laws of the United States, do hereby proclaim October 2021 as National Breast Cancer Awareness Month. I encourage citizens, government agencies, private businesses, nonprofit organizations, and other interested groups to join in activities that will increase awareness of what Americans can do to prevent and control breast cancer, and pay tribute to those who have lost their lives to this disease.

IN WITNESS WHEREOF, I have hereunto set my hand this thirtieth day of September, in the year of our Lord two thousand twenty-one, and of the Independence of the United States of America the two hundred and forty-sixth.

[FR Doc. 2021-21885

Filed 10-4-21; 11:15 am]

Billing code 3395-F2-P